DEPARTMENT OF AGRICULTURE

Forest Service

Eastern Washington Cascades Provincial Advisory Committee and Yakima Provincial Advisory Committee

AGENCY: Forest Service, USDA.

ACTION: Notice of Meeting.

SUMMARY: The Eastern Washington Cascades Provincial Advisory Committee and the Yakima Provincial Advisory Committee will meet on Thursday, March 7, 2002, at the Wenatchee National Forest headquarters main conference room, 215 Melody Lane, Wenactchee, Washington. The meeting will begin at 9 a.m. and continue until 4 p.m. During this meeting we will discuss the Forest Supervisor's response to committee advice on noxious weed management, and also participate in a discussion of proposed public involvement for an upcoming forest roads inventory. All Eastern Washington Cascades and Yakima Province Advisory Committee meetings are open to the public. Interested citizens are welcome to attend.

FOR FURTHER INFORMATION CONTACT: Direct questions regarding this meeting to Paul Hart, Designated Federal Official, USDA, Wenatchee National Forest, 215 Melody Lane, Wenatchee, Washington 98801, 509-662-4335.

Dated: February 7, 2002.
Paul Hart,
Designated Federal Official, Okanogan an Wenatchee National Forests.

[FR Doc. 02-3727 Filed 2-14-02; 8:45 am]

BILLING CODE 3410-11-M